DEPARTMENT OF THE TREASURY

Office of the Secretary

31 CFR Part 1

RIN 1505-AC32

Privacy Act; Implementation

AGENCY: Office of the Secretary, Treasury.

ACTION: Correcting amendments.

SUMMARY: In accordance with the requirements of the Privacy Act of 1974, as amended, 5 U.S.C. 552a, the Department of the Treasury is issuing a correction to the amendment of its Privacy Act regulations due to inadvertently omitting an exempt system of records from this part.

DATES: Effective Date: September 28, 2012.

FOR FURTHER INFORMATION CONTACT: Brian Anderson, Privacy Act Officer, Department of the Treasury, at 202-622-0755, or by email at Privacy@Treasury.gov.

SUPPLEMENTARY INFORMATION: On May 15, 2012, the Department of the Treasury issued a final rule revising 31 CFR 1.36 to reflect the transition, in 2003, of the United States Customs Service, the Federal Law Enforcement Training Center, and United States Secret Service from the Department of the Treasury to the Department of Homeland Security. In addition, the amendments reflect the 2003 transfer of certain functions of the Bureau of Alcohol, Tobacco and Firearms (ATF) to the Department of Justice, and the remaining functions reorganized as the Alcohol and Tobacco Tax and Trade Bureau (TTB) within the Department of the Treasury, as well as other housekeeping changes. The final rule was effective upon publication.

The Department found that one system of records for which an exemption pursuant to 5 U.S.C. 552a(j)(2) is claimed had inadvertently been omitted from the list of systems of records in the table found in section (c)(1)(ii). The proposed rule for the exempt system of records was published on January 14, 2010, beginning at 75 FR 2086. The final rule exempting Treasury/DO .220—SIGTARP Hotline Database was published on June 28, 2010, at 75 FR 36536.

This regulation is being published as a final rule because the amendments do not impose any requirements on any member of the public. These amendments are the most efficient means for the Treasury Department to implement its internal requirements for complying with the Privacy Act.

Accordingly, pursuant to 5 U.S.C. 553(b)(B) and (d)(3), the Department of the Treasury finds good cause that prior notice and other public procedures with respect to this rule are unnecessary, and good cause for making this final rule effective on the date of publication in the Federal Register.

Pursuant to Executive Order 12866, it has been determined that this final rule is not a significant regulatory action, and therefore, does not require a regulatory impact analysis.

Because no notice of proposed rulemaking is required, the provisions of the Regulatory Flexibility Act, 5 U.S.C. 601-612, do not apply.

List of Subjects in 31 CFR Part 1

Privacy.

Part 1 of title 31 of the Code of Federal Regulations is amended as follows:

PART 1—[AMENDED]

1. The authority citation for part 1 continues to read as follows:

Authority: 5 U.S.C. 301 and 31 U.S.C. 321. Subpart A also issued under 5 U.S.C. 552 as amended. Subpart C also issued under 5 U.S.C. 552a.

2. In § 1.36, paragraph (c)(1)(ii) is amended by adding a new entry “DO .220-SIGTARP Hotline Database” to the table in numerical order to read as follows:

§ 1.36 Systems exempt in whole or in part from provisions of 5 U.S.C. 552a and this part.

* * * * *

(c) * * *

(1) * * *

(ii) * * *

Number | System name
* * * * *
DO.220 | SIGTARP Hotline Database.
* * * * *

* * * * *

Dated: September 24, 2012.
Melissa Hartman,
Deputy Assistant Secretary for Privacy, Transparency, and Records.

[FR Doc. 2012-23837 Filed 9-27-12; 8:45 am]

BILLING CODE 4810-25-P